DEPARTMENT OF HEALTH AND HUMAN SERVICES

Substance Abuse and Mental Health Services Administration

Office for Women's Services; Notice of Meeting

Pursuant to Public Law 92-463, notice is hereby given of the meeting of the Advisory Committee for Women's Services of the Substance Abuse and Mental Health Services Administration (SAMHSA) in May 2001.

The meeting of the Advisory Committee for Women's Services will include a discussion of policy and program issues relating to women's substance abuse and mental health service needs; cultural competency, new 2002 funding opportunities addressing women and planning discussions for SAMHSA's Third National Conference on Women, consideration of the January 26, 2001 meeting minutes; and other policy issues. Public comments are welcome. If anyone needs special accommodations for persons with disabilities, please notify the contact listed below.

A summary of the meeting and/or a roster of committee members may be obtained from: Nancy P. Brady, Executive Secretary, Advisory Committee for Women's Services, Office for Women's Services, SAMHSA, Parklawn Building, Room 13-99, 5600 Fishers Lane, Rockville, Maryland 20857, Telephone: (301) 443-5184.

Substantive information may be obtained from the contact whose name and telephone number is listed below.

Committee Name: Advisory Committee for Women's Services.

Meeting Date: Thursday, May 24, 2001.

Meeting Time: 9:30 a.m.—3:30 p.m.

Place: Gaithersburg Marriott Washingtonian Center (at Rio) 9751 Washingtonian Boulevard, Gaithersburg, MD 20878.

Open: May 24, 2001.

Contact: Nancy P. Brady, 5600 Fishers Lane, Parklawn Building, Room 13-99, Telephone: (301) 443-5184.

This notice is being published less than 15 days prior to the meeting due to the urgent need to meet timing limitations imposed by the review and funding cycle.

Dated: May 9, 2001.
Toian Vaughn,
Executive Secretary/Committee Management Officer, Substance Abuse and Mental Health Services Administration.

[FR Doc. 01-12099 Filed 5-14-01; 8:45 am]

BILLING CODE 4162-20-P